DEPARTMENT OF COMMERCE

Foreign-Trade Zones Board

[B-31-2012]

Foreign-Trade Zone 235—Lakewood, NJ, Authorization of Production Activity, Cosmetic Essence Innovations, LLC, (Fragrance Bottling), Holmdel, NJ

Cosmetic Essence Innovations, LLC (CEI) submitted a notification of proposed production activity to the Foreign-Trade Zones (FTZ) Board for their facility located in Holmdel, New Jersey, within Site 8 of FTZ 235.

The notification was processed in accordance with the regulations of the FTZ Board (15 CFR part 400), including notice in the Federal Register inviting public comment (77 FR 26737, 5/7/2012). The FTZ Board has determined that no further review of the activity is warranted at this time. The production activity described in the notification is authorized, subject to the FTZ Act and the Board's regulations, including Section 400.14.

Dated: September 4, 2012.
Andrew McGilvray,
Executive Secretary.

[FR Doc. 2012-22248 Filed 9-7-12; 8:45 am]

BILLING CODE P